DEPARTMENT OF HEALTH AND HUMAN SERVICES

Administration for Community Living

Availability of Program Application Instructions for Medicare Improvements for Patients and Providers Act (MIPPA) Program Funds

AGENCY: Administration for Community Living, HHS.

ACTION: Notice

SUMMARY: The purpose of MIPPA funding is to enhance statewide and local coalition building focused on outreach, education, and one-to-one assistance activities to Medicare beneficiaries likely to be eligible for the Low Income Subsidy program (LIS) or the Medicare Savings Programs (MSP), above and beyond those regular activities planned in response to other funding. ACL will provide funding to State Health Insurance Assistance Programs (SHIP), Area Agencies on Aging (AAA), and Aging and Disability Resource Center (ADRC).

ACL seeks plans from applicants that will describe how the MIPPA funds will be used for outreach, education, and one-on-one application assistance over the next year. ACL requests that applicants submit a one (1) year state plan with specific project strategies to:

1. Enhance their one-on-one assistance, education, and outreach efforts to eligible Medicare beneficiaries regarding their preventive, wellness, and limited income benefits;

2. Describe how the SHIP, AAA, and ADRC efforts will be coordinated to provide outreach to beneficiaries with limited incomes statewide including rural areas and tribal entities;

3. Review and update previous MIPPA plans to reflect successes achieved to date and direct their efforts to enhance and expand their MIPPA outreach activities; and

4. Set performance goals, taking into account the MIPPA Performance Measures (PMs) implemented in Grant Year 2019 [Performance Measures include: Overall MIPPA Contacts; Overall Persons Reached through Outreach; MIPPA Target Populations (Under 65, Rural, Native American, English as a Secondary Language); and Contacts with Applications Submitted].

Additionally, programs should ensure MIPPA counselors familiarity with integrated care programs that support beneficiaries' independence at home and in the community, including Programs of All-Inclusive Care for the Elderly, Medicare Advantage Special Needs Plans and Supplemental benefits, and other integrated care programs for Medicare and Medicaid dual eligible beneficiaries. Applicant plans should go above and beyond those regular activities planned in response to other funding. State agencies may prepare either one statewide plan or separate plans for each eligible agency.

Announcement Type: Initial.

Funding Opportunity Number: CIP-MI-20-001.

Statutory Authority: The statutory authority for grants under this program announcement is contained in the 2006 Reauthorization of the Older Americans Act—Section 202 and the Medicare Improvements for Patients and Providers Act of 2008—Section 119, Public Law (Pub. L.) 110-275 as amended by the Patient Protection and Affordable Care Act of 2010 (Affordable Care Act), reauthorized by the American Taxpayer Relief Act of 2012 (ATRA), the Protecting Access to Medicare Act of 2014, and the Medicare Access and CHIP Reauthorization Act of 2015 (MACRA), the Bipartisan Budget Act of 2018, and the Coronavirus Aid, Relief, and Economic Security (CARES) Act of 2020.

Catalog of Federal Domestic Assistance (CFDA) Number: 93.071.

DATES: The deadline date for the submission of MIPPA Program State Plans is 11:59 p.m. EST July 20, 2020.

I. Award Information

1. Funding Instrument Type

These awards will be made in the form of grants to agencies for each MIPPA Priority Area:

Priority Area 1—Grants to state agencies (State Units on Aging or State Departments of Insurance) that administer the SHIP to provide enhanced outreach to eligible Medicare beneficiaries regarding their preventive, wellness, and limited income benefits; application assistance to individuals who may be eligible for LIS or MSPs; and outreach activities aimed at preventing disease and promoting wellness.

Priority Area 2—Grants to state agencies for AAA and Native American programs to provide enhanced outreach to eligible Medicare beneficiaries regarding their preventive, wellness, and limited income benefits; application assistance to individuals who may be eligible for LIS or MSPs; and outreach activities aimed at preventing disease and promoting wellness.

Priority Area 3—Grants to agencies that are established ADRCs who have received an ADRC/No Wrong Door System (NWD) grant to provide outreach regarding Medicare Part D benefits related to LIS and MSPs, and conduct outreach activities aimed at preventing disease and promoting wellness.

2. Anticipated Total Priority Area Funding per Budget Period

ACL intends to make available, under this program announcement, grant awards for the three MIPPA priority areas. Funding will be distributed through a formula as identified in statute. The amounts allocated are based upon factors defined in statute and will be distributed to each priority area based on the formula. ACL will fund total project periods of up to one (1) year contingent upon availability of federal funds.

Priority Area 1—SHIP: $12.4 million in FY 2020 for state agencies that administer the SHIP Program.

Priority Area 2—AAA: $7.1 million in FY 2020 for State Units on Aging for Area Agencies on Aging and for Native American programs. Funding for Native American Programs ($285,000) is deducted from Priority 2 and is being allocated through a separate process.

Priority Area 3—ADRC: $4.7 million in FY 2020 for agencies that are established ADRCs who have received an ADRC/NWD grant.

II. Eligibility Criteria and Other Requirements

1. Eligible Applicants for MIPPA Priority Areas 1, 2 and 3

Priority Area 1: Only existing SHIP grant recipients are eligible to apply.

Priority Area 2: Only State Units on Aging are eligible to apply.

Priority Area 3: Only agencies that are established ADRCs who have received an Aging and Disability Resource Center (ADRC)/No Wrong Door System (NWD) grant.

Eligibility may change if future funding is available.

2. Cost Sharing or Matching is not Required

3. DUNS Number

All grant applicants must obtain and keep current a D-U-N-S number from Dun and Bradstreet. It is a nine-digit identification number, which provides unique identifiers of single business entities. The D-U-N-S number can be obtained from: https://iupdate.dnb.com/iUpdate/viewiUpdateHome.htm.

4. Intergovernmental Review

Executive Order 12372, Intergovernmental Review of Federal Programs, is not applicable to these grant applications.

III. Submission Information

1. Application Kits

Application Kits/Program Instructions are available at www.grantsolutions.gov. Instructions for completing the application kit will be available on the site.

2. Submission Dates and Times

To receive consideration, applications must be submitted by 11:59 p.m. Eastern Time on July 20, 2020, through www.GrantSolutions.gov.

VI. Agency Contacts

Direct inquiries regarding programmatic issues to:

Margaret Flowers, Phone: 202.795.7315, Email: Margaret.Flowers@acl.hhs.gov.

Dated: May 14, 2020.
Mary Lazare,
Principal Deputy Administrator.

[FR Doc. 2020-11050 Filed 5-21-20; 8:45 am]

BILLING CODE 4154-01-P